DEPARTMENT OF THE INTERIOR

Fish and Wildlife Service

[FWS-R2-ES-2017-N092; FXES11120200000-178-FF02ENEH00]

Draft Environmental Assessment and Draft Habitat Conservation Plan for the San Antonio Water System's Micron and Water Resources Integration Program Water Pipelines; Bexar County, Texas

AGENCY: Fish and Wildlife Service, Interior.

ACTION: Notice of availability; request for public comments.

SUMMARY: We, the U.S. Fish and Wildlife Service (Service), make available the draft Environmental Assessment (dEA) for the San Antonio Water System (SAWS) draft Habitat Conservation Plan (dHCP) for construction of two water pipelines (Micron and Water Resources Integration Program (WRIP)) in Bexar County, Texas. SAWS (applicant) has applied to the Service for an incidental take permit (ITP) under the Endangered Species Act (ESA).

DATES: To ensure consideration, written comments must be received or postmarked on or before November 6, 2017.

ADDRESSES: Availability of Documents:

Internet: You may obtain copies of the all documents at the Service's Web site at http://www.fws.gov/southwest/es/AustinTexas/.

U.S. Mail: A limited number of CD-ROM and printed copies of the draft EA and draft HCP are available, by request, from Mr. Adam Zerrenner, Austin Ecological Services Field Office, 10711 Burnet Road, Suite 200, Austin, TX 78758-4460; telephone 512-490-0057; fax 512-490-0974. Please note that your request is in reference to the SAWS dHCP (TE 36242C-0).

The ITP application is available by mail from the Regional Director, U.S. Fish and Wildlife Service, P.O. Box 1306, Room 6034, Albuquerque, NM 87103.

• In-Person: Copies of the dEA and dHCP are also available for public inspection and review at the following locations, by appointment and written request only, 8 a.m. to 4:30 p.m.:

○ U.S. Fish and Wildlife Service, 500 Gold Avenue SW., Room 6034, Albuquerque, NM 87102.

○ U.S. Fish and Wildlife Service, 10711 Burnet Road, Suite 200, Austin, TX 78758.

Comment submission: You may submit written comments by one of the following methods:

• Electronically: Submit electronic comments to FW2_AUES_Consult@fws.gov. Please note that your request is in reference to the SAWS dHCP (TE 36242C-0).

• By hard copy: Mr. Adam Zerrenner, Austin Ecological Services Field Office, 10711 Burnet Road, Suite 200, Austin, TX 78758-4460; telephone 512-490-0057; fax 512-490-0974. Please note that your request is in reference to the SAWS dHCP (TE 36242C-0).

We request that you send comments by only the methods described above.

FOR FURTHER INFORMATION CONTACT: Adam Zerrenner, Field Supervisor, U.S. Fish and Wildlife Service, 10711 Burnet Road, Suite 200, Austin, TX 78758 or (512) 490-0057.

SUPPLEMENTARY INFORMATION:

Introduction

We, the U.S. Fish and Wildlife Service (Service), make available the draft Environmental Assessment (dEA) for the San Antonio Water System (SAWS) draft Habitat Conservation Plan (dHCP) for construction of two water pipelines (Micron and Water Resources Integration Program (WRIP)) in Bexar County, Texas. SAWS (applicant) has applied to the Service for an incidental take permit (ITP; TE 36242C-0) under section 10(a)(1)(B) of the Endangered Species Act of 1973, as amended (16 U.S.C. 1531 et seq.; ESA). The applicant requests a 15-year term permit to authorize incidental take of the following five federally listed karst invertebrates:

Madla's Cave meshweaver (Cicurina madla)

Robber Baron Cave meshweaver (Cicurina baronia)

Braken Bat Cave meshweaver (Cicurina venii)

ground beetles with no common name (R Rhadine exilis and Rhadine infernalis).

The proposed take would occur within SAWS's rights-of-way (permit area) during construction of two water pipelines (by Micron and WRIP) in Bexar County, Texas, as a result of vegetation disturbance; excavation; temporary placement of excavated material; permanent placement of pipe, casings, and stabilizing materials; backfilling of excavated trenches; and restoration of surface conditions (covered activities). The permit area is 160.4 acres.

Documents Available for Review

In accordance with the requirements of the National Environmental Policy Act of 1969 (42 U.S.C. 4321 et seq.; NEPA), we advise the public that:

1. We have gathered the information necessary to determine impacts and formulate alternatives for the dEA related to potential issuance of an ITP to the applicant; and

2. The applicant has developed a dHCP as part of the application for an ITP, which describes the measures the applicant has agreed to take to minimize and mitigate the effects of incidental take of the covered species to the maximum extent practicable pursuant to section 10(a)(1)(B) of the ESA.

As described in the dHCP, the proposed incidental take would occur within the rights-of-way of two proposed water pipelines in Bexar County, Texas, and would result from activities associated with otherwise lawful activities.

Proposed Action

The proposed action involves the issuance of an ITP by the Service for the covered activities in the permit area, pursuant to section 10(a)(1)(B) of the ESA. The ITP would cover incidental take of the covered species associated with construction of the Micron and WRIP water pipelines within the permit area.

To meet the requirements of a section 10(a)(1)(B) ITP, the applicant has developed and proposes to implement its dHCP, which describes the conservation measures the applicant has agreed to undertake to minimize and mitigate for the impacts of the proposed incidental take of the covered species to the maximum extent practicable, and ensures that incidental take will not appreciably reduce the likelihood of the survival and recovery of these species in the wild.

The applicant proposes to mitigate with the perpetual protection, management, and monitoring of 57.6 acres of the undeveloped portion of SAWS's Anderson Pump Station, which is adjacent to the proposed pipelines.

Alternatives

Two alternatives to the proposed action we are considering as part of this process are:

1. No Action: No ITP would be issued. Under a No Action alternative, the Service would not issue the requested ITP, and SAWS would not construct the Micron and WRIP water pipelines. Therefore, the applicant would not implement the conservation measures described in the dHCP.

2. Reduced Take and Reduced Mitigation: The Reduced Take and Reduced Mitigation alternative is similar to the Proposed Action in that the Service would issue an ITP for the proposed projects. However, the HCP under this alternative would be modified to cover a reduced area of karst zone impacts and thus would subsequently reduce the amount of conservation to offset the impacts. All other aspects of the proposed project and the HCP would remain the same.

Public Availability of Comments

Written comments we receive become part of the public record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Authority

We provide this notice under section 10(c) of the ESA and its implementing regulations (50 CFR 17.22 and 17.32) and NEPA and its implementing regulations (40 CFR 1506.6).

Joy E. Nicholopoulos,
Acting Regional Director, Southwest Region, Albuquerque, New Mexico.

[FR Doc. 2017-21563 Filed 10-5-17; 8:45 am]

BILLING CODE 4333-15-P